DEPARTMENT OF TRANSPORTATION

Federal Highway Administration

Environmental Impact Statement: Seattle, Washington

AGENCY: Federal Highway Administration (FHWA), USDOT.

ACTION: Notice of intent.

SUMMARY: The FHWA is issuing this notice to advise the public, Tribes, and agencies that an environmental impact statement will be prepared for a proposed highway project in Seattle, King County, Washington.

FOR FURTHER INFORMATION CONTACT: Jim Leonard, FHWA, 711 South Capitol Way, Suite 501, Olympia, Washington, 98501 (telephone 360-753-9408); Carroll Hunter, WSDOT Office of Urban Mobility, 401 Second Avenue South, Suite 300, Seattle, WA 98104-2887 (telephone 206-464-6231), and Kristen Nielsen, City of Seattle, 600 Fourth Avenue, Suite 401, Seattle, WA 98140-1879 (telephone 206-684-0983).

SUPPLEMENTARY INFORMATION: The FHWA, the Washington State Department of Transportation (WSDOT), and the City of Seattle will prepare an environmental impact statement (EIS) to document the environmental consequences for alternative solutions to improve the existing SR 99 corridor now partially served by the Alaskan Way Viaduct located in downtown Seattle, King County, Washington. The proposed action would provide a facility with improved earthquake resistance that maintains or improves mobility for people and goods along the existing SR 99 Corridor. The proposed action would involve improvements to the existing 2-mile viaduct structure or construction of a new facility. The southern terminus of the project would be the First Avenue South Bridge. The north terminus would be north of the existing Battery Street Tunnel and will be determined after project scoping to (1) not preclude a possible connection to the south Lake Union vicinity (the Mercer Street Corridor connection to Interstate 5), (2) not preclude a possible realignment of the SR 99 corridor, and (3) not preclude using the existing Battery Street Tunnel and existing Alaskan Way Viaduct facilities.

Improvement to the corridor are considered necessary because the age, design, and location of the existing viaduct make it vulnerable to soil liquefaction and could render the structure unusable in a strong earthquake. Built in the 1950's, the viaduct does not meet current seismic standards. Damage sustained to the structure during a February 2001 earthquake compounded its seismic vulnerability. The structure also does not meet current roadway design standards for lane widths, shoulders, and ramp sight distances and tapers, which contribute to the number and severity of traffic accidents. Four areas along this section of SR 99 are designated High Accident Locations (HAL). The SR 99 Alaskan Way Viaduct is one of two primary north-south limited access routes through downtown Seattle, and is a vital link in the region's roadway system.

Although alternatives have not yet been identified, preliminary alternatives under early consideration include: taking no action, seismic retrofit of the existing structure, in-kind replacement of the current structure, replacement with a new elevated structure of a different configuration, replacement with a tunnel, removal of the viaduct and reconfiguration of the surface street system, adding transit capacity, or combinations of these solutions. The list of alternatives to be addressed in the EIS will be finalized after scoping has occurred.

Letters soliciting comments on the scope of the EIS and describing the purpose, need, and potential alternatives will be sent to appropriate Federal, State, and local agencies, Tribes, and to private organizations and citizens who have previously expressed or are known to have interest in this proposal. Two meetings will be held to identify the scope of issues to be addressed, the major impacts, and the potential alternatives. Both meetings will be conducted on June 28, 2001, at the Mountaineers Club, Olympus Room, 300 Third Avenue West, Seattle, Washington. The first meeting, from 1:00 to 4:00 p.m., will focus on input from agencies and Tribes. The second meeting, from 5:00 to 8:00 p.m., will primarily be for the public. Written scoping comments may be submitted to Carol Hunter (WSDOT) at the address provided above and are requested by July 12, 2001. In addition, a public hearing will be held following circulation of the draft EIS.

To ensure that the full range of issues related to this proposed action are addressed and all significant issues are identified, comments and suggestions are invited from all interested parties. Comments or questions concerning this action and the EIS should be directed to FHWA or WSDOT or the City of Seattle at the addresses provided above.

(Catalog of Federal Domestic Assistance Program Number 20.205, Highway Research, Planning, and Construction. The regulations implementing Executive Order 12372 regarding intergovernmental consultation on Federal programs and activities apply to this program.)
Issued on: June 18, 2001.
James A. Leonard,
Urban Transportation and Environmental Engineer, Olympia, Washington, for the Division Administrator.

[FR Doc. 01-15730 Filed 6-21-01; 8:45 am]

BILLING CODE 4910-22-M